DEPARTMENT OF HEALTH AND HUMAN SERVICES

National Institutes of Health

Center for Scientific Review; Amended Notice of Meeting

Notice is hereby given of a change in the meeting of the Pathophysiology of Obesity and Metabolic Disease Study Section, October 29, 2024, 10:00 a.m. to October 30, 2024, 06:30 p.m., National Institutes of Health, Rockledge II, 6701 Rockledge Drive, Bethesda, MD 20892 which was published in the Federal Register on October 01, 2024, 89 FR 79935.

This meeting is being amended to change the contact person from Dr. Heather Marie Brockway to Elaine Sierra-Rivera. The meeting is closed to the public.

Dated: October 3, 2024.
David W. Freeman,
Supervisory Program Analyst, Office of Federal Advisory Committee Policy.

[FR Doc. 2024-23350 Filed 10-8-24; 8:45 am]

BILLING CODE 4140-01-P